DEPARTMENT OF TRANSPORTATION

National Highway Traffic Safety Administration

[Docket Number NHTSA-2014-0100]

Reports, Forms, and Record Keeping Requirements

AGENCY: National Highway Traffic Safety Administration, DOT.

ACTION: Request for public comment on a proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before November 25, 2014.

ADDRESSES: You may submit comments [Identified by DOT Docket No. NHTSA-2014-0100] by any of the following methods:

• Federal eRulemaking Portal: Go to http://www.regulations.gov. Follow the online instructions for submitting comments.

• Mail: Docket Management Facility: U.S. Department of Transportation, 1200 New Jersey Avenue SE., West Building, Ground Floor, Room W12-140, Washington, DC 20590-0001.

• Hand Delivery or Courier: West Building, Ground Floor, Room W12-140, 1200 New Jersey Avenue SE., between 9 a.m. and 5 p.m. ET, Monday through Friday, except Federal holidays. Telephone: 1-800-647-5527.

• Fax: 202-493-2251.

Instructions: All submissions must include the agency name and docket number for this proposed collection of information. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

Docket: For access to the docket to read background documents or comments received, go to http://www.regulations.gov and follow the online instructions for accessing the dockets. Alternately, you may visit in person the Docket Management Facility at the street address listed above.

FOR FURTHER INFORMATION CONTACT: Coleman Sachs, Office of Vehicle Safety Compliance (NVS-223), National Highway Traffic Safety Administration, West Building-4th Floor-Room W43-481, 1200 New Jersey Avenue SE., Washington, DC 20590. Mr. Sachs' telephone number is (202) 366-3151. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collection of information:

Title: Consolidated Labeling Requirements for 49 CFR parts 565 Vehicle Identification Number (VIN) Requirements, and 567 Certification.

Type of Request: Extension of a currently approved collection.

OMB Control Number: 2127-0510.

Affected Public: Motor vehicle manufacturers.

Form Number: None.

Abstract:

Part 565

The regulations in part 565 specify the format, contents, and physical requirements for a vehicle identification number (VIN) system and its installation to simplify vehicle identification information retrieval and to increase the accuracy and efficiency of vehicle recall campaigns. The regulations require each vehicle manufactured in one stage to have a VIN that is assigned by the vehicle's manufacturer. Each vehicle manufactured in more than one stage is to have a VIN assigned by the incomplete vehicle manufacturer. Each VIN must consist of 17 characters, including a check digit, in the ninth position, whose purpose is to verify the accuracy of any VIN transcription. The VIN must also incorporate the world manufacturer identifier or WMI assigned to the manufacturer by the competent authority in the country where the manufacturer is located. The WMI occupies the first three characters of the VIN for manufacturers that produce 1,000 or more vehicles of a specified type within a model year, and positions 1, 2, 3, 12, 13, and 14 of VINs assigned by manufacturers that produce less than 1,000 vehicles of a specified type per model year. The remaining characters of the VIN describe various vehicle attributes, such as make, model, and type, which vary depending on the vehicle's type classification (i.e. passenger car, multipurpose passenger vehicle, truck, bus, trailer, motorcycle, low-speed vehicle), and identify the vehicle's model year, plant code, and sequential production number. NHTSA has contracted with SAE International of Warrendale, Pennsylvania, to coordinate the assignment of WMIs to manufacturers in the United States. Each manufacturer of vehicles subject to the requirements of part 565 must submit, either directly or through an agent, the unique identifier for each make and type of vehicle it manufactures at least 60 days before affixing the first VIN using the identifier. Manufacturers are also required to submit to NHTSA information necessary to decipher the characters contained in their VINs, including amendments to that information, at least 60 days prior to offering for sale the first vehicle identified by a VIN containing that information or if information concerning vehicle characteristics sufficient to specify the VIN code is unavailable to the manufacturer by that date, then within one week after that information first becomes available. In 2011, NHTSA received VIN deciphering information under part 565 from approximately 650 manufacturers. In 2012, NHTSA received this information from approximately 500 manufacturers. In 2013, NHTSA received this information from approximately 475 manufacturers. Based on these figures, the agency would expect to receive approximately 542 part 565 submissions from manufacturers in each of the next three years (650 + 500 + 475 = 1625; 1625/3 = 542). Assuming that it would take one hour to produce a VIN deciphering submission, at an average cost of $30.00 per hour for the administrative and professional staff preparing and reviewing the submission, NHTSA estimates that it will cost vehicle manufacturers $16,260 to comply with the part 565 requirements (542 submission × $30 = $16,260).

Part 567

The regulations in part 567 specify the content and location of, and other requirements for, the certification label to be affixed to a motor vehicle, as required by the National Traffic and Motor Vehicle Safety Act, as amended (the Vehicle Safety Act)(49 U.S.C. 30115) and the Motor Vehicle Information and Cost Savings Act, as amended (the Cost Savings Act)(49 U.S.C. 30254 and 33109), to address certification-related duties and liabilities, and to provide the consumer with information to assist him or her in determining which of the Federal Motor Vehicle Safety Standards (as found in 49 CFR part 567), Bumper Standards (as found in 49 CFR part 581, and Federal Theft Prevention Standards (as found in 49 CFR part 541) are applicable to the vehicle. The regulations pertain to manufacturers of motor vehicles to which one or more standards are applicable, including persons who alter such vehicles prior to their first retail sale, and to Registered Importers of vehicles not originally manufactured to comply with all applicable Federal motor vehicle safety standards that are determined eligible for importation by NHTSA, based on the vehicles' capability of being modified to conform to those standards. The regulations require each manufacturer to affix to each vehicle, in a prescribed location, a label that, among other things, identifies the vehicle's manufacturer (defined as the person who actually assembles the vehicle), the vehicle's date of manufacture, and the statement that the vehicle complies with all applicable Federal motor vehicle safety standards and, where applicable, Bumper and Theft Prevention Standards in effect on the date of manufacture. The label must also include the vehicle's gross vehicle and gross axle weight ratings (GVWR and GAWRs), vehicle identification number, and vehicle type classification (i.e., passenger car, multipurpose passenger vehicle, truck, bus, trailer, motorcycle, low-speed vehicle). The regulations specify other labelling requirements for incomplete vehicle, intermediate, and final-stage manufacturers of vehicles built in two or more stages, such as commercial trucks that are built by adding work performing components, such as a cargo box or cement mixer, to a previously manufactured chassis or chassis-cab, and to persons who alter previously certified vehicles, other than by the addition, substitution, or removal of readily attachable components such as mirrors or tire and rim assemblies, or minor finishing operation such as painting, before the first purchase of the vehicle for purposes other than resale.

Description of the Likely Respondents (Including Estimated Number and Proposed Frequency of Responses to the Collection of Information): The agency estimates that it will receive new submissions of VIN deciphering information under part 565 from approximately 542 manufacturers of motor vehicles per year. The manufacturers need only submit the required information on a one-time basis, with the proviso that they notify the agency of any changes in the information on file within 30 days from the date that any change in that information occurs. In addition, the agency estimates that approximately 15,000 manufacturers of motor vehicles of all types, including manufacturers of passenger cars, multipurpose passenger vehicles, trucks, buses, trailers, motorcycles and low-speed vehicles, as well as incomplete vehicle manufacturers, intermediate and final stage manufacturers of vehicles built in two or more stages, and vehicle alterers, will need to comply with the certification labeling requirements of part 567.

Estimate of the Total Annual Reporting and Recordkeeping Burden of the Collection of Information: 542 hours for supplying required VIN-deciphering information to NHTSA under part 565; 60,000 hours for meeting the labeling requirements of part 567.

Estimate of the Total Annual Costs of the Collection of Information: Assuming that the letter and table that is used to submit part 565 information is completed by company officers or employees compensated at an average rate of $30.00 per hour, the agency estimates that $16,260 will be expended on an annual basis by all manufacturers required to submit that information. Additionally, assuming that it will take an average of .005 hours to affix a certification label to each of the approximately 12,000,000 vehicles produced each year for sale in the United States, at an average cost of $20.00 per hour, the agency estimates that roughly $1,200,000 will be expended by all manufacturers to comply with the labeling requirements of part 567.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Nancy Lumman Lewis,
Associate Administrator for Enforcement.

[FR Doc. 2014-22933 Filed 9-25-14; 8:45 am]

BILLING CODE 4910-59-P